DEPARTMENT OF DEFENSE

Department of the Air Force

Notice of Active Duty Determination

AGENCY: Department of the Air Force, DoD.

ACTION: Proposed Federal Register Notice of Active Duty Determination Under Public Law 95-202.

SUMMARY: On September 30, 2013, the Secretary of the Air Force, acting as Executive Agent of the Secretary of Defense, determined that the service of the group known as the “Lycoming AVCO Vietnam Tech Reps” shall not be considered “active duty” for purposes of all laws administered by the Department of Veterans Affairs.

FOR FURTHER INFORMATION CONTACT: Mr. Bruce T. Brown, Executive Secretary, DoD Civilian/Military Service Review Board, 1500 West Perimeter Road, Suite 3700, Joint Base Andrews, NAF Washington, MD 20762-7002, 240-612-5364, bruce.brown@afncr.af.mil.

Bao-Anh Trinh,
Air Force Federal Register Liaison Officer, DAF.

[FR Doc. 2013-24946 Filed 10-23-13; 8:45 am]

BILLING CODE 5001-10-P